DEPARTMENT OF TRANSPORTATION

Federal Aviation Administration

[Policy Statement No. ANE-2004-33.4-4]

Policy for Design Approval Procedures for Parts Manufacturer Approval of Critical Engine and Propeller Parts

AGENCY: Federal Aviation Administration, DOT.

ACTION: Notice of proposed policy statement; request for comments.

SUMMARY: The Federal Aviation Administration (FAA) announces the availability of proposed policy for Design Approval Procedures for Parts Manufacturer Approval of Critical Engine and Propeller Parts.

DATES: Comments must be received by December 31, 2004.

ADDRESSES: Send all comments on the proposed policy to the individual identified under FOR FURTHER INFORMATION CONTACT

FOR FURTHER INFORMATION CONTACT: Karen M. Grant, FAA, Engine and Propeller Standards Staff, ANE-110, 16 New England Executive Park, Burlington, MA 01803; e-mail: karen.m.grant@faa.gov; telephone: (781) 238-7119; fax: (781) 7199.

SUPPLEMENTARY INFORMATION:

Comments Invited

The proposed policy statement is available on the Internet at the following address: http://www.airweb.faa.gov/rgl. If you do not have access to the Internet, you may request a copy of the proposed policies by contacting the individual listed under FOR FURTHER INFORMATION CONTACT. The FAA invites interested parties to comment on the proposed policies. Comments should identify the subject of the proposed policy and be submitted to the individual identified under FOR FURTHER INFORMATION CONTACT. The FAA will consider all comments received by the closing date before issuing the final policies.

Background

This proposed policy memorandum provides guidance to Aircraft Certification Offices when establishing their process for evaluating Parts Manufacturer Approval (PMA) applications for critical engine and propeller parts. This proposed policy also requires applicants to complete a failure assessment and to consider a continuous operational safety plan for all engine and propeller PMA proposed parts. This policy does not supersede previous ANE-110, Engine & Propeller Directorate policy.

[Authority: 49 U.S.C. 106(g), 40113, 44701-44702, 44704.]

Francis A. Favara,
Acting Manager, Engine and Propeller Directorate, Aircraft Certification Service.

[FR Doc. 04-24852 Filed 11-5-04; 8:45 am]

BILLING CODE 4910-13-M